ENVIRONMENTAL PROTECTION AGENCY

[FRL-9161-8]

Science Advisory Board Staff Office; Notification of a Public Meeting of the Science Advisory Board Exposure and Human Health Committee (EHHC)

AGENCY: Environmental Protection Agency (EPA).

ACTION: Notice.

SUMMARY: The EPA Science Advisory Board (SAB) Staff Office announces a public meeting of the SAB Exposure and Human Health Committee (EHHC) on July 1-2, 2010 to receive briefings on risk assessment activities from several EPA programs.

DATES: The public meeting will be held on July 1, 2010 from 9 a.m. to 5 p.m. (Eastern Daylight Time) and on July 2, 2010 from 9 a.m. to 1:30 p.m. (Eastern Daylight Time).

ADDRESSES: The meeting will be held at the St. Regis Hotel, 923 16th Street, NW., Washington, DC 20006; telephone (202) 638-2626.

FOR FURTHER INFORMATION CONTACT: Any member of the public wishing to obtain general information concerning this public teleconference should contact Dr. Suhair Shallal, Designated Federal Officer (DFO), EPA Science Advisory Board (1400F), 1200 Pennsylvania Avenue, NW., Washington, DC 20460; via telephone/voice mail (202) 343-9977; fax (202) 233-0643; or e-mail at shallal.suhair@epa.gov. General information concerning the EPA Science Advisory Board can be found on the SAB Web site at http://www.epa.gov/sab.

SUPPLEMENTARY INFORMATION: Pursuant to the Federal Advisory Committee Act (FACA), 5 U.S.C., App. 2, notice is hereby given that the Exposure and Human Health Committee of the EPA Science Advisory Board will hold a public meeting to learn about and discuss current initiatives and activities within EPA focused on human health risk assessment. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background: The SAB Exposure and Human Health Committee (EHHC) provides advice on the development and use of guidelines for human health effects, exposure assessment, and risk assessment. The EPA's National Center for Environmental Assessment, Risk Assessment Forum, and Office of Pesticide Programs will brief the EHHC on ongoing and planned human health risk assessment activities. The briefings will serve as background information for the Committee to develop advice on the subject areas.

Availability of Meeting Materials: The agenda and other materials in support of the meeting will be placed on the SAB Web site at http://www.epa.gov/sab in advance of the meeting.

Procedures for Providing Public Input: Public comment for consideration by EPA's Federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting time to make an oral presentation at a public SAB meeting will be limited to five minutes, with no more than one hour for all speakers. Those interested in being placed on the public speakers list should contact Dr. Shallal at the contact information provided above by June 24, 2010. Written Statements: Written statements should be received in the SAB Staff Office by June 24, 2010. Written statements should be supplied to the DFO via e-mail to shallal.suhair@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Suhair Shallal at (202) 343-9977 or shallal.suhair@epa.gov. To request accommodation of a disability, please contact her preferably at least 10 days prior to the teleconference, to give EPA as much time as possible to process your request.

Dated: June 7, 2010.
Anthony F. Maciorowski,
Deputy Director, EPA Science Advisory Board Staff Office.

[FR Doc. 2010-14207 Filed 6-11-10; 8:45 am]

BILLING CODE 6560-50-P